DEPARTMENT OF TRANSPORTATION

Federal Aviation Administration

14 CFR Part 39

[Docket No. FAA-2008-0449; Directorate Identifier 2007-SW-10-AD; Amendment 39-15669; AD 2008-19-02]

RIN 2120-AA64

Airworthiness Directives; Bell Helicopter Textron Canada Model 222, 222B, 222U, 230, and 430 Helicopters

AGENCY: Federal Aviation Administration, DOT.

ACTION: Final rule.

SUMMARY: We are superseding an existing airworthiness directive (AD) for Bell Helicopter Textron Canada (Bell) Model 222, 222B, 222U, 230, and 430 helicopters. That AD currently requires visually inspecting the main rotor hydraulic actuator support (support) to verify the presence of all dowel pins and sealant between the support and transmission and verifying the proper torque of each attaching nut (nut). This AD requires the same actions as the existing AD and also requires repetitive actions at intervals not to exceed 600 hours time-in-service (TIS) or 12 months, whichever occurs first. This AD is prompted by the discovery that a 12-month compliance requirement was correctly included in an Emergency AD (EAD) that we issued but was inadvertently omitted when we published the Final rule; request for comments following the issuance of the EAD. The actions specified by this AD are intended to prevent failure of the support and subsequent loss of control of the helicopter.

DATES: Effective October 16, 2008.

The incorporation by reference of Bell Helicopter Textron Alert Service Bulletin Nos. 222-00-86, 222U-00-57, 230-00-18, and 430-00-17, all dated May 19, 2000, was approved previously for incorporation by reference by the Director of the Federal Register on March 2, 2001 (66 FR 10361, February 15, 2001).

ADDRESSES: You may examine the AD docket on the Internet at http://regulations.gov or in person at the Docket Operations office, U.S. Department of Transportation, M-30, West Building Ground Floor, Room W12-140, 1200 New Jersey Avenue, SE., Washington, DC between 9 a.m. and 5 p.m. Monday through Friday, except Federal holidays.

You may get the service information identified in this AD from Bell Helicopter Textron Canada, 12,800 Rue de l'Avenir, Mirabel, Quebec J7J1R4, telephone (450) 437-2862 or (800) 363-8023, fax (450) 433-0272.

Examining the AD Docket: The AD docket contains the Notice of proposed rulemaking (NPRM), the economic evaluation, any comments received, and other information. The street address and operating hours for the Docket Operations office (telephone (800) 647-5527) are in the ADDRESSES section of this AD. Comments will be available in the AD docket shortly after they are received.

FOR FURTHER INFORMATION CONTACT: Tyrone Millard, Aerospace Engineer, FAA, Rotorcraft Directorate, Rotorcraft Standards Staff, Fort Worth, Texas 76193-0110, telephone (817) 222-5439, fax (817) 222-5961.

SUPPLEMENTARY INFORMATION: On January 5, 2001, we issued EAD 2001-01-51 for Bell Model 222, 222B, 222U, 230, and 430 helicopters which requires, at specified time intervals, visually inspecting the support for the presence of all dowel pins and sealant between the support and transmission and verifying the proper torque of each nut. That action was prompted by the failure of a support resulting in an accident of a Bell Model 222U helicopter. All retaining studs and shear pins were found sheared or pulled out at the junction between the support and transmission case. The requirements of that EAD are intended to prevent failure of the support and subsequent loss of control of the helicopter.

On February 2, 2001, we issued AD 2001-01-51, Amendment 39-12105, Docket No. 2000-SW-54-AD as a Final rule; request for comments (66 FR 10361, February 15, 2001). Since issuing that AD, we discovered that we inadvertently omitted the phrase “or 12 months, whichever occurs first,” from compliance paragraph (a) of the published final rule AD. Because the two versions of AD 2001-01-51 have different compliance times, we issued an NPRM on April 14, 2008 (73 FR 21853, April 23, 2008) proposing to supersede AD 2001-01-51 and require the following:

• Within 25 hours TIS, and thereafter at intervals not to exceed 600 hours TIS or 12 months, whichever occurs first:

• Visually inspecting the support and, if any pin is missing or if there is no sealant visible, further inspecting the support, the transmission case, studs, and dowel pins and repairing or replacing any unairworthy part before further flight;

• Verifying the torque of the nuts and, depending on the location and number of loose nuts, before further flight:

• Removing the support and further inspecting the support, transmission case, studs, and dowel pins and repairing or replacing any unairworthy part; and

• Retorqueing certain nuts;

• At not less than 20 hours TIS nor more than 30 hours TIS after reinstalling a support for any reason, verifying the torque of the nuts.

By publishing the NPRM, we gave the public an opportunity to participate in developing this AD. However, we received no comment on the NPRM or on our determination of the cost to the public. Therefore, based on our review and evaluation of the available data, we have determined that air safety and the public interest require adopting the AD as proposed.

We have reviewed Bell Alert Service Bulletin Nos. 222-00-86, 222U-00-57, 230-00-18, and 430-00-17, all dated May 19, 2000 (ASB's), which specify, within 25 hours TIS, conducting a one-time inspection of the support installation by accomplishing a torque check of the support attaching nuts. In addition, a revision to the maintenance manual will introduce a recurring torque check of the nuts. Transport Canada classified these ASB's as mandatory and issued AD No. CF-2000-29, dated September 6, 2000, to ensure the continued airworthiness of these helicopters in Canada.

We estimate that this AD will affect 145 helicopters of U.S. registry. It will take approximately ½ work hour per helicopter to inspect for proper torque, and the average labor rate is $80 per work hour. The cost for the inspection is estimated to be $5,800. Assuming 15 helicopters require removing the support for additional inspections, it will take approximately 6 additional work hours at $80 per work hour and $50 for parts at an additional total cost of $7,950. Based on these figures, we estimate the total cost impact of this AD on U.S. operators to be $13,750, assuming no supports are replaced.

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-12105 (66 FR 10361, February 15, 2001), and by adding a new airworthiness directive (AD), Amendment 39-15669, to read as follows:

2008-19-02 Bell Helicopter Textron Canada: Amendment 39-15669, Docket No. FAA-2008-0449; Directorate Identifier 2007-SW-10-AD. Supersedes AD 2001-01-51, Amendment 39-12105, Docket No. 2000-SW-54-AD.

Applicability: Model 222, 222B, 222U, 230, and 430 helicopters, with a main rotor hydraulic actuator support (support), part number (P/N) 222-040-125-001, installed, certificated in any category.

Compliance: Required as indicated, unless accomplished previously.

To prevent failure of the support and subsequent loss of control of the helicopter, accomplish the following:

(a) Within 25 hours time-in-service (TIS) and thereafter at intervals not to exceed 600 hours TIS or 12 months, whichever occurs first, accomplish the following:

(1) Visually inspect the support for the presence of all dowel pins and for sealant between the support and transmission. If any pin is missing, or if no sealant is visible, before further flight, remove the support and further inspect the support, transmission case, studs, and dowel pins in accordance with the Accomplishment Instructions, paragraphs 5 through 7, of the applicable Bell Helicopter Textron Alert Service Bulletin Nos. 222-00-86, 222U-00-57, 230-00-18, or 430-00-17, all dated May 19, 2000 (ASB's). Repair or replace any unairworthy support, transmission case, stud, or dowel pin before further flight.

(2) Verify the torque of the support attaching nuts (nuts). Upper nuts must not rotate at a torque less than 40 in-lbs. Lower nuts must not rotate at a torque less than 90 in-lbs.

(i) If two or more upper nuts rotate at a torque less than 40 in-lbs. or two or more lower nuts rotate at a torque less than 90 in-lbs., before further flight, remove the support and further inspect the support, transmission case, studs, and dowel pins in accordance with the Accomplishment Instructions, paragraph 5 through 7, of the applicable ASB's. Repair or replace any unairworthy support, transmission case, stud, or dowel pin before further flight.

(ii) If less than two upper nuts rotate at a torque less than 40 in-lbs. or less than two lower nuts rotate at a torque less than 90 in-lbs., before further flight, retorque the upper nut to 50 to 70 in-lbs. plus tare and the lower nut to 100 to 140 in-lbs. plus tare.

(b) At not less than 20 hours TIS nor more than 30 hours TIS after reinstalling a support for any reason, verify the torque of the nuts in accordance with paragraph (a)(2) of this AD.

(c) To request a different method of compliance or a different compliance time for this AD, follow the procedures in 14 CFR 39.19. Contact the Manager, Rotorcraft Standards Staff, FAA, ATTN: Tyrone Millard, telephone (817) 222-5439, fax (817) 222-5961, for information about previously approved alternative methods of compliance.

(d) You must use the specified portions of Bell Helicopter Textron Alert Service Bulletin Nos. 222-00-86, 222U-00-57, 230-00-18, or 430-00-17, all dated May 19, 2000, to do the required inspections.

(1) The Director of the Federal Register previously approved the incorporation by reference of these service bulletins on March 2, 2001 (66 FR 10361, February 15, 2001).

(2) For service information identified in this AD, contact Bell Helicopter Textron Canada, 12,800 Rue de l'Avenir, Mirabel, Quebec J7J1R4, telephone (450) 437-2862 or (800) 363-8023, fax (450) 433-0272.

(3) You may review copies at the FAA, Office of the Regional Counsel, Southwest Region, 2601 Meacham Blvd., Room 663, Fort Worth, Texas; or at the National Archives and Records Administration (NARA). For information on the availability of this material at NARA, call (202) 741-6030, or go to: http://www.archives.gov/federal-register/cfr/ibr-locations.html.

(e) This amendment becomes effective on October 16, 2008.

Note: The subject of this AD is addressed in Transport Canada (Canada) AD CF-2000-29, dated September 6, 2000.

Issued in Fort Worth, Texas, on August 13, 2008.
Mark R. Schilling,
Acting Manager, Rotorcraft Directorate, Aircraft Certification Service.

[FR Doc. E8-20979 Filed 9-10-08; 8:45 am]

BILLING CODE 4910-13-P